DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[11/14/2014 through 11/18/2014]
Firm name | Firm address | Date accepted for investigation | Product(s)
Genesis Acquisition Company, Inc., d/b/a Northland Furniture Company | 681 SE Glenwood Drive, Suite 5, Bend, OR 97702 | 11/18/2014 | The firm manufactures wood products, molding, panels, veneer or laminated panels.
Main Street Pedicabs, Inc | 11811 Upham Street, #9, Broomfield, CO 80020 | 11/14/2014 | The firm manufactures human powered transportation pedicabs, made of steel frames, fiberglass bodies, and bicycle components.
Perennial Energy, LLC | 1375 County Road 8690, West Plains, MO 65775 | 11/18/2014 | The firm manufactures customized biogas handling systems (Skids, Flares)—extract/remove waste gases from landfills, digesters & other sources.
Vforge, Inc | 5567 West 6th Avenue, Lakewood, CO 80214 | 11/14/2014 | The firm manufactures high precision aluminum alloy forged components for various industries.
Thurston Manufacturing, Inc | 1708 H Avenue, Thurston, NE 68062 | 11/18/2014 | The firm manufactures agricultural equipment.
American Standard Company, Inc | 1570 Water Street, Southington, CT 06489 | 11/12/2014 | The firm manufactures fiber optic wire strippers, dog tags, blades for knives, tree pruning tools, various metal stamped products and various tools assemblies.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: November 18, 2014.
Michael DeVillo,
Eligibility Examiner.

[FR Doc. 2014-27877 Filed 11-24-14; 8:45 am]

BILLING CODE 3510-WH-P